FEDERAL COMMUNICATIONS COMMISSION

47 CFR Part 10

[PS Docket Nos. 15-94 and 15-91; FCC 23-88; FR ID 225472]

Emergency Alert System; Wireless Emergency Alerts

AGENCY: Federal Communications Commission.

ACTION: Final rule; announcement of effective date.

SUMMARY: In this document, the Federal Communications Commission (Commission) announces that the Office of Management and Budget (OMB) has approved until May 31, 2027, an information collection associated with the Commission's Third Report and Order, FCC 23-88 (Order), in which the Commission, among other things, adopted a new rule that provided Participating Commercial Mobile Service (CMS) Providers may support up to two Wireless Emergency Alert (WEA) tests that the public receives by default per county or county equivalent per calendar year. This document is consistent with the Order, which stated the Commission would publish a document in the Federal Register announcing the effective date of the new rules.

DATES: The amendment of 47 CFR 10.350(d) published at 88 FR 86824 on December 15, 2023, is effective on July 17, 2024.

FOR FURTHER INFORMATION CONTACT: David Kirschner, Attorney-Advisor, Public Safety and Homeland Security Bureau, Cybersecurity and Communications Reliability Division at (202) 418-0695 or via email: David.Kirschner@fcc.gov or Nicole Ongele at (202) 418-2991 or via email: Nicole.Ongele@fcc.gov.

SUPPLEMENTARY INFORMATION: This document announces that, on May 29, 2024, OMB approved the information collection requirements relating to § 10.350(d) contained in the Commission's Order FCC 23-88, published at 88 FR 86824, December 15, 2023. The OMB Control Number is 3060-1126. The Commission publishes this document as an effective date of the rule. If you have any comments on the burden estimates listed below, or how the Commission can improve the collections and reduce any burdens caused thereby, please contact Nicole Ongele, Federal Communications Commission, 45 L Street NE, Washington, DC 20554. Please include OMB Control Number 3060-1126, in your correspondence. The Commission will also accept your comments via email at PRA@fcc.gov.

Synopsis

As required by the Paperwork Reduction Act of 1995 (44 U.S.C.3507), the FCC is notifying the public that it received OMB approval on May 29, 2024, for the information collection requirements contained in 47 CFR 10.350(d) of the Commission's rules.

Under 5 CFR part 1320, an agency may not conduct or sponsor a collection of information unless it displays a current, valid OMB Control Number.

No person shall be subject to any penalty for failing to comply with a collection of information subject to the Paperwork Reduction Act that does not display a current, valid OMB Control Number. The OMB Control Number is 3060-1126.

The foregoing notification is required by the Paperwork Reduction Act of 1995, Public Law 104-13, October 1, 1995, and 44 U.S.C. 3507.

The total annual reporting burdens and costs for the respondents are as follows:

OMB Control Number: 3060-1126.

OMB Approval Date: May 29, 2024.

OMB Expiration Date: May 31, 2027.

Title: Testing and Logging Requirements for Wireless Emergency Alerts.

Form Number: N/A.

Respondents: Business or other for-profit; Not-for-profit institutions; State, Local, or Tribal Government.

Number of Respondents and Responses: 76 respondents; 429,020 responses.

Estimated Time per Response: 3.375 hours.

Frequency of Response: Monthly and on occasion reporting requirements and record keeping requirement.

Obligation to Respond: Required to obtain or retain benefits. Statutory authority for this collection is contained in sections 47 U.S.C. 151, 152, 154, 301, 303, 307, 309, 316, 403, 554, 606, 1201, 1202, 1203, 1204, and 1206 of the Communications Act of 1934.

Total Annual Burden: 119,121 hours.

Total Annual Cost: No cost.

Needs and Uses: The Commission adopted requirements for Participating CMS Providers to log the basic attributes of alerts they receive at their Alert Gateway, to maintain those logs for at least 12 months, to make those logs available upon request to the Commission and Federal Emergency Management Agency (FEMA), and to emergency management agencies that offer confidentiality protection at least equal to that provided by Federal FOIA. The Commission also requires Participating CMS Providers to disclose information regarding their capabilities for geo-targeting Alert Messages initiated by that emergency management agency, and information regarding the results of WEA Performance and Public Awareness Testing authorized in 47 CFR 10.350(d). Prior to conducting a WEA Performance and Public Awareness Test, an alerting authority must: (1) conduct outreach by notifying the public in advance of the test that no emergency is occurring; (2) include in the actual test message that the alert is, in fact, “only a test;” (3) coordinate the test among Participating CMS Providers that serve the geographic area targeted by the test, State, local, and Tribal emergency authorities, relevant State Emergency Communications Committees and first responder organizations, and (4) provide notice to the public in widely accessible formats that the test is only a test, not a warning about an actual emergency.

These recordkeeping and reporting requirements have potential to increase emergency managers' confidence that WEA will work as intended when needed. This increased confidence in system availability encourages emergency management agencies that do not currently use WEA to become authorized. These reporting and recordkeeping requirements also help to ensure a fundamental component of system integrity against which future iterations of WEA can be evaluated. Without records that can be used to describe the quality of system integrity, and the most common causes of message transmission failure it would be difficult to evaluate how any changes to WEA may effect system integrity.

Federal Communications Commission.
Marlene Dortch,
Secretary, Office of the Secretary.

[FR Doc. 2024-13194 Filed 6-14-24; 8:45 am]

BILLING CODE 6712-01-P